DEPARTMENT OF ENERGY

Federal Energy Regulatory Commission

[Docket Nos. AC06-96-000, et al.]

Electric Rate and Corporate Filings

May 9, 2006.

The following filings have been made with the Commission. The filings are listed in ascending order within each docket classification.

1. Florida Power Corporation

[Docket No. AC06-96-000]

On May 5, 2006, Florida Power Corporation filed a request for authority to reduce the wholesale annual nuclear decommissioning accrual for its Crystal River Unit #3 beginning January 2006 through December 2009, in the above referenced docket.

Comment Date: 5 p.m. Eastern Time on May 23, 2006.

2. Rumford Falls Hydro LLC

[Docket No. EG06-46-000]

Take notice that on April 17, 2006 Rumford Falls Hydro LLC filed its notice of self-certification of exempt wholesale generator status pursuant to sections 366.1 and 366.7 of the Commission's regulations and section 1266 of the Public Utility Holding Company Act of 2005.

Comment Date: 5 p.m. Eastern Time on May 15, 2006.

3. MMC Escondido LLC

[Docket No. EG06-48-000]

Take notice that on April 19, 2006 MMC Escondido LLC filed its notice of self-certification of exempt wholesale generator status pursuant to sections 366.1 and 366.7 of the Commission's regulations and section 1266 of the Public Utility Holding Company Act of 2005.

Comment Date: 5 p.m. Eastern Time on May 15, 2006.

4. WGL Holdings, Inc.

[Docket No. PH06-47-000]

Take notice that on May 3, 2006 WGL Holdings, Inc. filed a notice for exemption from the requirements of the Public Utility Holding Company Act of 2005 pursuant to 18 CFR 366.3(a) and 366.4(b)(1).

Comment Date: 5 p.m. Eastern Time on May 24, 2006.

5. Legg Mason, Inc.

[Docket No. PH06-48-000]

Take notice that on May 5, 2006 Legg Mason, Inc. filed a notice for exemption from the requirements of the Public Utility Holding Company Act of 2005 pursuant to 18 CFR 366.3(b)(1) and 366.4(b)(1).

Comment Date: 5 p.m. Eastern Time on May 26, 2006.

6. ALLETE, Inc.

[Docket No. PH06-49-000]

Take notice that on May 5, 2006 ALLETE, Inc. filed a notice of petition for waiver of the Commission's regulations, pursuant to 18 CFR 366.3(c) and 366.4(c)(1), stating it is a single-state holding company system.

Comment Date: 5 p.m. Eastern Time on May 26, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-7370 Filed 5-15-06; 8:45 am]

BILLING CODE 6717-01-P